DEPARTMENT OF AGRICULTURE

Natural Resources Conservation Service

Sicily Island Watershed, Catahoula Parish, LA

AGENCY: Natural Resources Conservation Service, USDA.

ACTION: Notice of intent to deauthorize Federal funding.

SUMMARY: Pursuant to the Watershed Protection and Flood Prevention Act, Pub. L. 83-566, and Natural Resources Conservation Service Guidelines (7 CFR 622), the Natural Resources Conservation Service gives notice of the intent to deauthorize Federal funding for the Sicily Island Watershed, Catahoula Parish, Louisiana.

FOR FURTHER INFORMATION CONTACT: Donald W. Gohmert, State Conservationist, Natural Resources Conservation Service, 3737 Government Street, Alexandria, Louisiana, 71302, telephone: 318-473-7751.

SUPPLEMENTARY INFORMATION: A determination has been made by Donald W. Gohmert that the proposed works of improvement for the Sicily Island Watershed will not be installed. The sponsoring local organization(s) have concurred in this determination and agree that Federal funding should be deauthorized for the project. Information regarding this determination may be obtained from Donald W. Gohmert, State Conservationist, at the above address and telephone number.

No administrative action on implementation of the proposed deauthorization will be taken until 60 days after the date of this publication in the Federal Register.

Donald W. Gohmert,
State Conservationist.

[FR Doc. 02-27593 Filed 10-29-02; 8:45 am]

BILLING CODE 3410-16-P